DEPARTMENT OF LABOR

Occupational Safety and Health Administration

[Docket No. OSHA-2006-0040]

SGS North America, Inc.: Grant of Expansion of Recognition

AGENCY: Occupational Safety and Health Administration (OSHA), Labor.

ACTION: Notice.

SUMMARY: In this notice, OSHA announces its final decision to expand the scope of recognition for SGS North America, Inc., as a Nationally Recognized Testing Laboratory (NRTL).

DATES: The expansion of the scope of recognition becomes effective on September 29, 2016.

FOR FURTHER INFORMATION CONTACT: Information regarding this notice is available from the following sources:

Press inquiries: Contact Mr. Frank Meilinger, Director, OSHA Office of Communications, U.S. Department of Labor, 200 Constitution Avenue NW., Room N-3647, Washington, DC 20210; telephone: (202) 693-1999; email: meilinger.francis2@dol.gov.

General and technical information: Contact Kevin Robinson, Director, Office of Technical Programs and Coordination Activities, Directorate of Technical Support and Emergency Management, Occupational Safety and Health Administration, U.S. Department of Labor, 200 Constitution Avenue NW., Room N-3655, Washington, DC 20210; telephone: (202) 693-2110; email: robinson.kevin@dol.gov. OSHA's Web page includes information about the NRTL Program (see http://www.osha.gov/dts/otpca/nrtl/index.html).

SUPPLEMENTARY INFORMATION:

I. Notice of Final Decision

OSHA hereby gives notice of the expansion of the scope of recognition of SGS North America, Inc. (SGS), as an NRTL. SGS's expansion covers the addition of three (3) recognized testing and certification sites and thirty-nine (39) recognized testing standards to its NRTL scope of recognition.

OSHA recognition of an NRTL signifies that the organization meets the requirements in Section 1910.7 of Title 29, Code of Federal Regulations (29 CFR 1910.7). Recognition is an acknowledgment that the organization can perform independent safety testing and certification of the specific products covered within its scope of recognition and is not a delegation or grant of government authority. As a result of recognition, employers may use products properly approved by the NRTL to meet OSHA standards that require testing and certification.

The Agency processes applications by an NRTL for initial recognition, or for expansion or renewal of this recognition, following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. OSHA maintains an informational Web page for each NRTL that details its scope of recognition. These pages are available from the Agency's Web site at http://www.osha.gov/dts/otpca/nrtl/index.html.

SGS submitted four applications, two dated September 24, 2014 (OSHA-2006-0040-0025), and two dated October 1, 2014 (OSHA-2006-0040-0026 and OSHA-2006-0040-0028), to expand its recognition to include the addition of three recognized testing and certification sites located at: SGS Tecnos S.A., C/. Trespaderne 29, Edificio Barajas 1, 28042 Madrid—Spain; SGS Fimko, Ltd., Sarkiniementie 3, FI-00210 Helsinki, Finland; and SGS Baseefa Limited, Rockhead Business Park, Staden Lane, Buxton SK17 9RZ, United Kingdom. Amendments to the October 1, 2014, applications were received on January 14, 2015 (OSHA-2006-0040-0027), and June 16, 2016 (OSHA-2006-0040-0029). These applications additionally requested the addition of forty-nine (49) additional test standards to SGS's scope of recognition, in addition to the three testing and certification sites. OSHA staff performed a detailed analysis of the application and other pertinent information. OSHA staff also performed on-site reviews of SGS's testing and certification facilities on August 5, 2015, at SGS Madrid; on August 13, 2015, at SGS Baseefa; and on August 17, 2015, at SGS Fimko and recommended expansion of SGS's recognition to include these three (3) testing sites and 39 of the 49 requested test standards.

OSHA published the preliminary notice announcing SGS's expansion applications in the Federal Register on July 21, 2016 (81 FR 47438). The Agency requested comments by August 5, 2016, but it received no comments in response to this notice. OSHA now is proceeding with this final notice to grant expansion of SGS's scope of recognition to include these three recognized testing sites and thirty-nine (39) of the forty-nine (49) requested testing standards.

To obtain or review copies of all public documents pertaining to the SGS's application, go to www.regulations.gov or contact the Docket Office, Occupational Safety and Health Administration, U.S. Department of Labor, 200 Constitution Avenue NW., Room N-2625, Washington, DC 20210. Docket No. OSHA-2006-0040 contains all materials in the record concerning SGS's recognition.

II. Final Decision and Order

OSHA staff examined SGS's expansion applications, conducted detailed on-site assessments, and examined other pertinent information. Based on its review of this evidence, OSHA finds that SGS meets the requirements of 29 CFR 1910.7 for expansion of its recognition, subject to the limitations and conditions listed below.

OSHA, therefore, is proceeding with this final notice to grant this expansion to SGS's scope of recognition to include three additional test sites. OSHA limits the expansion of SGS's recognition to include the sites at SGS Madrid, Madrid, Spain; SGS Fimko, Helsinki, Finland; and SGS Baseefa, Buxton, United Kingdom as listed above. OSHA's recognition of these sites limits SGS to performing product testing and certifications only to the test standards for which the site has the proper capability and programs, and for test standards in SGS's scope of recognition. This limitation is consistent with the recognition that OSHA grants to other NRTLs that operate multiple sites.

Additionally, OSHA is proceeding with this final notice to grant SGS's scope to recognition to include thirty-nine additional test standards to its scope of recognition. OSHA limits the expansion of SGS's recognition to testing and certification of products for demonstration of conformance to the test standards listed in Table 1 below.

Table 1—List of Appropriate Test Standards for Inclusion in SGS's NRTL Scope of Recognition
Test standard | Test standard title
UL 1741 | Inverters, Converters, and Controllers for Use in Independent Power Systems.
UL 6142 | Small Wind Turbine Systems.
UL 763 | Motor-Operated Commercial Food Preparing Machines.
UL 775 | Graphic Arts Equipment.
UL 1004-1 | Rotating Electrical Machines—General Requirements.
UL 2089 | Vehicle Battery Adapters.
ISA 60079-0 | Explosive Atmospheres—Part 0: Equipment—General Requirements.
ISA 60079-1 | Explosive Atmospheres—Part 1: Equipment Protection by Flameproof Enclosures “d”.
ISA 60079-2 | Explosive Atmospheres—Part 2: Equipment Protection by Pressurized Enclosures “p”.
ISA 60079-5 | Explosive Atmospheres—Part 5: Equipment Protection by Powder Filling “q”.
ISA 60079-6 | Explosive Atmospheres—Part 6: Equipment Protection by Liquid Immersion “o”.
ISA 60079-7 | Explosive Atmospheres—Part 7: Equipment Protection by Increased Safety “e”.
ISA 60079-11 | Explosive Atmospheres—Part 11: Equipment Protection by Intrinsic Safety “i”.
ISA 60079-15 | Explosive Atmospheres—Part 15: Equipment Protection by Type of Protection “n”.
ISA 60079-18 | Explosive Atmospheres—Part 18: Equipment Protection by Encapsulation “m”.
ISA 60079-26 | Explosive Atmospheres—Part 26: Equipment for Use in Class I, Zone 0 Hazardous (Classified) Locations.
ISA 60079-28 | Explosive Atmospheres—Part 28: Protection of Equipment and Transmission Systems Using Optical Radiation, Edition 1.1.
ISA 60079-31 | Explosive Atmospheres—Part 31: Equipment Dust Ignition Protection by Enclosure “t”.
UL 1203 | Explosion Proof and Dust-Ignition-Proof Electrical Equipment for Use in Hazardous (Classified) Locations.
UL 1574 | Track Lighting Systems.
UL 2108 | Low Voltage Lighting Systems.
UL 8750 | Light Emitting Diode (LED) Equipment for Use in Lighting Products.
UL 60745-1 | Hand-Held Motor-Operated Electric Tools—Safety—Part 1: General Requirements.
UL 60745-2-1 | Hand-Held Motor Operated Electrical Tools—Safety—Part 2-1: Particular Requirements for Drills and Impact Drills.
UL 60745-2-2 | Particular Requirements for Screwdrivers and Impact Wrenches.
UL 60745-2-3 | Particular Requirements for Grinders, Polishers and Disk-Type Sanders.
UL 60745-2-4 | Particular Requirements for Sanders and Polishers Other Than Disk Type.
UL 60745-2-5 | Particular Requirements for Circular Saws.
UL 60745-2-6 | Particular Requirements for Hammers.
UL 60745-2-8 | Particular Requirements for Shears and Nibblers.
UL 60745-2-9 | Particular Requirements for Tappers.
UL 60745-2-11 | Particular Requirements for Reciprocating Saws.
UL 60745-2-12 | Particular Requirements for Concrete Vibrators.
UL 60745-2-13 | Hand-Held Motor-Operated Electric Tools—Safety—Part 2-13: Particular Requirements for Chain Saws.
UL 60745-2-14 | Hand-Held Motor-Operated Electric Tools—Safety—Part 2-14: Particular Requirements for Planers.
UL 60745-2-15 | Hand-Held Motor-Operated Electric Tools—Safety—Part 2-15: Particular Requirements for Hedge Trimmers.
UL 60745-2-16 | Hand-Held Motor-Operated Electric Tools—Safety—Part 2-16: Particular Requirements for Tackers.
UL 60745-2-17 | Hand-Held Motor-Operated Electric Tools—Safety—Part 2-17: Particular Requirements for Routers and Trimmers.
UL 62368-1 | Audio/Video, Information and Communication Technology Equipment—Part 1: Safety Requirements.

OSHA's recognition of any NRTL for a particular test standard is limited to equipment or materials for which OSHA standards require third-party testing and certification before using them in the workplace. Consequently, if a test standard also covers any products for which OSHA does not require such testing and certification, an NRTL's scope of recognition does not include these products.

The American National Standards Institute (ANSI) may approve the test standards listed above as American National Standards. However, for convenience, we may use the designation of the standards-developing organization for the standard as opposed to the ANSI designation. Under the NRTL Program's policy (see OSHA Instruction CPL 1-0.3, Appendix C, paragraph XIV), any NRTL recognized for a particular test standard may use either the proprietary version of the test standard or the ANSI version of that standard. Contact ANSI to determine whether a test standard is currently ANSI-approved.

A. Conditions

In addition to those conditions already required by 29 CFR 1910.7, SGS also must abide by the following conditions of the recognition:

1. SGS must inform OSHA as soon as possible, in writing, of any change of ownership, facilities, or key personnel, and of any major change in its operations as an NRTL, and provide details of the change(s);

2. SGS must meet all the terms of its recognition and comply with all OSHA policies pertaining to this recognition; and

3. SGS must continue to meet the requirements for recognition, including all previously published conditions on SGS's scope of recognition, in all areas for which it has recognition.

Pursuant to the authority in 29 CFR 1910.7, OSHA hereby expands the recognition of SGS, subject to the limitations and conditions specified above.

Authority and Signature

David Michaels, Ph.D., MPH, Assistant Secretary of Labor for Occupational Safety and Health, 200 Constitution Avenue NW., Washington, DC 20210, authorized the preparation of this notice. Accordingly, the Agency is issuing this notice pursuant to 29 U.S.C. 657(g)(2), Secretary of Labor's Order No. 1-2012 (77 FR 3912, Jan. 25, 2012), and 29 CFR 1910.7.

Signed at Washington, DC, on September 26, 2016.
David Michaels,
Assistant Secretary of Labor for Occupational Safety and Health.

[FR Doc. 2016-23547 Filed 9-28-16; 8:45 am]

BILLING CODE 4510-26-P